DEPARTMENT OF THE INTERIOR

Bureau of Land Management

[AZ-930-04-1920-FM; AZA-31875]

Notice of Termination of Segregation and Opening Order

AGENCY: Bureau of Land Management, Interior.

ACTION: Notice of termination and opening order.

SUMMARY: Termination of a classification of lands for State Selection.

FOR FURTHER INFORMATION CONTACT: Bill Ruddick, Project Manager, Arizona State Office, Bureau of Land Management, 222 North Central Avenue, Phoenix, Arizona 85004.

SUPPLEMENTARY INFORMATION: Under the provisions of Sections 2275 and 2276 of the Revised Statutes, (43 U.S.C. Sections 851, 852) the State of Arizona filed application AZA-32028 to acquire public lands in lieu of certain school lands that were encumbered by other rights or reservations before the State's title could attach (In Lieu Land). Pursuant to the provisions of 43 CFR 2091.3-1(b) the lands described below were segregated for a period of 2 years from the date the application was filed. The lands described below were not utilized in the State's application for In Lieu Land. At 9 a.m., Mountain Standard Time, on April 29, 2004, the segregation affecting these lands is hereby terminated. The lands are opened only to an exchange with the State of Arizona, pursuant to the National Defense Authorization Act for Fiscal Year 2000 (Pub. L. 106-65, 113 Stat. 877, 878) and, Section 206 of the Federal Land Policy and Management Act of 1976 (43 U.S.C. 1716), as amended.

Group I

Gila and Salt River Meridian, Arizona

Surface Estate

T. 10 N., R. 29 E.

Sec. 18, E½.

T. 11 N., R. 28 E.

Sec. 14, E½E½, NW¼NE¼, SW¼SE¼.

T. 12 N., R. 28 E.

Sec. 12, NW¼NE¼, NE¼NW¼, W½SW¼.

T. 12 N., R. 31 E.

Sec. 15, Lots 1-4, inclusive, W½E½, W½.

Containing 1265.82 acres, more or less.

Sub Surface Estate

T. 10 N., R. 30 E.

Sec. 14, All;

Sec. 23, All;

Sec. 25, NW¼NE¼, NW¼.

Containing 1480.00 acres, more or less.

Pursuant to the provisions of 43 CFR 2091.3-1(b) the lands described below were segregated for a period of 2 years from the date the application was filed. The lands were not utilized in the State's application for In Lieu Land. At 9 a.m., Mountain Standard Time, on April 29, 2004, the segregation affecting these lands is hereby terminated. The lands are now open to public land laws, including the mining laws, subject to valid existing rights, the provisions of existing withdrawals, other segregations of record, and the requirements of applicable law.

Group II

Surface and Subsurface Estate

T. 12 N., R. 28 E.

Sec. 10, NW¼SE¼.

Containing 40.00 acres, more or less.

The lands described below were segregated from appropriation under the public land laws and mineral laws for an exchange with the State of Arizona, pursuant to the National Defense Authorization Act for Fiscal Year 2000 (Pub. L. 106-65, 113 Stat. 877, 878) and, Section 206 of the Federal Land Policy and Management Act of 1976 (43 U.S.C. 1716), as amended. The lands have subsequently been dropped from the exchange. At 9 a.m., Mountain Standard Time, on April 29, 2004, the segregation affecting these lands is hereby terminated. The lands are now open to public land laws, including the mining laws, subject to valid existing rights, the provisions of existing withdrawals, other segregations of record, and the requirements of applicable law.

Group III

Gila and Salt River Meridian, Arizona

Subsurface Estate

T. 12 N., R. 28 E.

Sec. 14, E½NE¼, NW¼NE¼, W½NW¼, NW¼SW¼, W½SE¼, SE¼SE¼.

T. 12 N., R. 30 E.

Sec. 12, NW¼.

T. 12 N., R. 31 E.

Sec. 22, Lots 1-4, inclusive, W½E½, W½.

Containing 1063.10 acres, more or less.

Surface Estate

T. 11 N., R. 28 E.

Sec. 27, SW¼SE¼.

T. 12 N., R. 29 E.

Sec. 4, Lots 4, 5, 12, & 13, SW¼.

Containing 352.94 acres, more or less.

Appropriation of lands described in Groups II & III under the general mining laws prior to the date and time of restoration is unauthorized. Any such attempted appropriation, including attempted adverse possession under 30 U.S.C. Sec. 38, shall vest no rights against the United States. Acts required to establish a location and to initiate a right of possession are governed by State law where not in conflict with Federal law. The Bureau of Land Management will not intervene in disputes between rival locators over possessory rights because Congress has provided for such determinations in local courts.

All valid applications under the public land laws received at or prior to 9 a.m., Mountain Standard Time, on April 29, 2004, shall be considered as simultaneously filed at that time. Those received thereafter shall be considered in the order of filing.

Dated: February 3, 2004.
Michael A. Taylor,
Deputy State Director for Resources.

[FR Doc. 04-6996 Filed 3-29-04; 8:45 am]

BILLING CODE 4310-32-P